DEPARTMENT OF THE INTERIOR

National Park Service

Notice of Meetings for the National Park Service (NPS) Subsistence Resource Commission (SRC) Program Within the Alaska Region

AGENCY: National Park Service, Interior.

ACTION: Notice of meetings for the National Park Service (NPS) Subsistence Resource Commission (SRC) program within the Alaska Region.

SUMMARY: The NPS announces the joint SRC meeting schedule for the following areas: Cape Krusenstern National Monument and Kobuk Valley National Park. The purpose of this joint meeting is to discuss NPS subsistence management issues and continue work on subsistence hunting program recommendations. This joint meeting is open to the public and will have time allocated for public testimony. The public is welcome to present written or oral comments. The meeting will be recorded and a summary will be available upon request from the Superintendent for public inspection approximately six weeks after each meeting. The NPS SRC program is authorized under Title VIII, section 808 of the Alaska National Interest Lands Conservation Act, (Pub. L. 96-487), to operate in accordance with the provisions of the Federal Advisory Committee Act.

DATES: The Cape Krusenstern National Monument SRC and Kobuk Valley National Park SRC joint meeting will be held on Wednesday, October 3, 2007 and Thursday, October 4, 2007, from 9 a.m. to 5 p.m., Alaska Standard Time. The meeting may end early if all business is finished.

Location: U.S. Fish and Wildlife Service, Conference Room, Kotzebue, AK, telephone: (907) 442-3799.

FOR FURTHER INFORMATION CONTACT: Willie Goodwin, Subsistence Manager, telephone: (907) 442-3890, or Ken Adkisson, Subsistence Manager, telephone: (907) 433-6104 at Western Arctic National Parklands National Park Service, P.O. Box 1029, Kotzebue, AK 99752.

SUPPLEMENTARY INFORMATION: SRC meeting location and dates may need to be changed based on weather or local circumstances. If the meeting dates and location are changed, notice of the new meeting will be announced on local radio stations and published in local newspapers.

The agenda for the joint meeting includes the following:

1. Call to order (SRC Chairs).

2. SRC Roll Call and Confirmation of Quorums.

3. SRC Chairs and Superintendent's Welcome and Introductions.

4. Review and Approve Agenda.

5. Status of SRC Membership.

6. SRC Member Reports.

7. Superintendent and NPS Staff Reports.

8. Federal Subsistence Board Update.

9. State of Alaska Board Actions Update.

10. New Business.

11. Agency and Public Comments.

12. SRC Work Session.

13. Set time and place of next SRC meeting.

14. Adjournment.

Dated: August 30, 2007.
Thomas J. Ferranti,
Associate Regional Director, Administration, Alaska Region.

[FR Doc. E7-18949 Filed 9-25-07; 8:45 am]

BILLING CODE 4312-HR-P